DEPARTMENT OF AGRICULTURE

Animal and Plant Health Inspection Service

9 CFR Parts 2 and 3

[Docket No. APHIS-2012-0107]

Petition To Amend Animal Welfare Act Regulations To Prohibit Public Contact With Big Cats, Bears, and Nonhuman Primates

AGENCY: Animal and Plant Health Inspection Service, USDA.

ACTION: Notice; reopening of comment period.

SUMMARY: We are reopening the comment period for a petition requesting amendments to the Animal Welfare Act regulations and standards, including to prohibit licensees from allowing individuals, with certain exceptions, from coming into direct or physical contact with big cats, bears, or nonhuman primates of any age, to define the term “sufficient distance,” and to prohibit the public handling of young or immature big cats, bears, and nonhuman primates and the separation of such animals from their dams before the species-typical age of weaning absent medical necessity. This action will allow interested persons additional time to prepare and submit comments.

DATES: The comment period for the notice published on August 5, 2013 (78 FR 47215) is reopened. We will consider all comments that we receive on or before November 18, 2013.

ADDRESSES: You may submit comments by either of the following methods:

• Federal eRulemaking Portal: Go to http://www.regulations.gov/#!documentDetail;D=APHIS-2012-0107-0001.

• Postal Mail/Commercial Delivery: Send your comment to Docket No. APHIS-2012-0107, Regulatory Analysis and Development, PPD, APHIS, Station 3A-03.8, 4700 River Road Unit 118, Riverdale, MD 20737-1238.

Supporting documents and any comments we receive on this docket may be viewed at http://www.regulations.gov/#!docketDetail;D=APHIS-2012-0107 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Barbara Kohn, DVM, Senior Staff Officer, USDA, APHIS, Animal Care, 4700 River Road Unit 84, Riverdale, MD 20737-1234; (301) 851-3751.

SUPPLEMENTARY INFORMATION: On August 5, 2013, we published in the Federal Register (78 FR 47215-47217, Docket No. APHIS-2012-0107) a notice ¹ making available for comment a petition requesting amendments to the Animal Welfare Act regulations and standards, including to prohibit licensees from allowing individuals, with certain exceptions, from coming into direct or physical contact with big cats, bears, or nonhuman primates of any age, to define the term “sufficient distance,” and to prohibit the public handling of young or immature big cats, bears, and nonhuman primates and the separation of such animals from their dams before the species-typical age of weaning absent medical necessity.

¹ To view the notice, petition, and the comments we have received, go to http://www.regulations.gov/#!docketDetail;D=APHIS-2012-0107.

Comments on the petition were required to be received on or before October 4, 2013. We are reopening the comment period on Docket No. APHIS-2012-0107 for an additional 45 days. This action will allow interested persons additional time to prepare and submit comments. We will also consider all comments received between October 5, 2013 (the day after the close of the original comment period) and the date of this notice.

Authority: 7 U.S.C. 2131-2159; 7 CFR 2.22, 2.80, and 371.7.

Done in Washington, DC, this 18th day of October 2013.
Kevin Shea,
Administrator, Animal and Plant Health Inspection Service.

[FR Doc. 2013-25004 Filed 10-23-13; 8:45 am]

BILLING CODE 3410-34-P